DEPARTMENT OF DEFENSE

Office of the Secretary

Defense Science Board

AGENCY: Department of Defense, DoD.

ACTION: Notice of closed advisory committee meetings.

SUMMARY: The Defense Science Board Task Force on VTOL/STOL will meet in closed session on September 12-13, 2006; at Strategic Analysis Inc., 3601 Wilson Boulevard, Arlington, VA. This meeting is a classified executive session to begin the review of gathered data and to begin formulating the report's contents.

The mission of the Defense Science Board is to advise the Secretary of Defense and the Under Secretary of Defense for Acquisition, Technology & Logistics on scientific and technical matters as they affect the perceived needs of the Department of Defense. At these meeting, the Defense Science Board Task Force will: Assess the features and capabilities VTOL/STOL aircraft should have in order to support the nation's defense needs through at least the first half of the 21st century.

In accordance with Section 10(d) of the Federal Advisory Committee Act, Pub. L. 92-463, as amended (5 U.S.C. App. II), it has been determined that these Defense Science Board Task Force meetings concern matters listed in 5 U.S.C. 552b(c)(1) and that, accordingly, the meeting will be closed to the public.

FOR FURTHER INFORMATION CONTACT: LCDR Clifton Phillips, USN, Defense Science Board, 3140 Defense Pentagon, Room 3C553, Washington, DC 20301-3140, via e-mail at clifton.phillips@osd.mil, or via phone at (703) 571-0083.

Due to scheduling difficulties, there is insufficient time to provide timely notice required by Section 10(a) of the Federal Advisory Committee Act and subsection 102-3.150(b) of the GSA Final Rule on Federal Advisory Committee Management, 41 CFR part 102-3.150(b), which further requires publication at least 15 calendar days prior to the meeting.

Dated: August 30, 2006.
C.R. Choate,
Alternate OSD Federal Register Liaison Officer, Department of Defense.

[FR Doc. 06-7444 Filed 9-5-06; 8:45 am]

BILLING CODE 5001-06-M